DEPARTMENT OF COMMERCE

National Oceanic and Atmospheric Administration

RIN 0648-XA003

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (MAFMC) Summer Flounder Monitoring Committee, Scup Monitoring Committee, Black Sea Bass Monitoring Committee, and the Mid-Atlantic Fishery Council's and the Atlantic States Marine Fisheries Commission's Sumer Flounder, Scup, and Black Sea Bass Advisors will hold public meetings.

DATES: The meeting will be held on Thursday, November 18, 2010 beginning at 8:30 a.m. with the Monitoring Committees. The Advisory Panels will begin meeting at 1 p.m. See SUPPLEMENTARY INFORMATION for meeting agenda.

ADDRESSES: The meeting will be held at the Holiday Inn BWI Airport Hotel, 890 Elkridge Landing Road, Linthicum, MD 21090; telephone: (410) 859-8400.

Council address: Mid-Atlantic Fishery Management Council, 800 N. State Street, Suite 201, Dover, DE 19901; telephone: (302) 674-2331.

FOR FURTHER INFORMATION CONTACT: Christopher M. Moore, PhD, Executive Director, Mid-Atlantic Fishery Management Council, 800 N. State Street, Suite 201, Dover, DE 19901; telephone: (302) 526-5255.

SUPPLEMENTARY INFORMATION: The purpose of these meetings is to recommend the 2011 recreational management measures for the summer flounder, scup, and black sea bass fisheries.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: October 21, 2010.
Tracey L. Thompson,
Acting Director, Office of Sustainable Fisheries, National Marine Fisheries Service.

[FR Doc. 2010-27098 Filed 10-26-10; 8:45 am]

BILLING CODE 3510-22-P